DEPARTMENT OF TRANSPORTATION

Bureau of Transportation Statistics

[Docket No. BTS-2001-11069]

Reports of Motor Carriers; Agency Decisions on Requests for Exemptions from Public Release

AGENCY: Bureau of Transportation Statistics (BTS), DOT.

ACTION: Notice of availability.

SUMMARY: This Notice announces BTS' decisions on 16 exemption requests filed by motor carriers. Class I and Class II for-hire motor carriers of property and household goods, with gross annual operating revenue of $3 million or more, are required to file annual reports with the BTS and Class I motor carriers must also file quarterly reports. As provided by statute, carriers may request that their reports be withheld from public release. On December 28, 2001, BTS published a Notice in the Federal Register (66 FR 67364) inviting comments on 44 exemption requests. BTS has reviewed the public comments and is issuing decisions in 16 of those exemption requests. These decisions are now available through the DOT Dockets Management System (DMS). You can read the decisions by following the instructions listed below.

In the near future, BTS expects to make decisions for the remaining exemption requests. The agency will publish another Notice when those decisions are available.

ADDRESSES: You can read the BTS decisions by visiting the DMS, in person, at the U.S. Department of Transportation, 400 Seventh Street, SW., Room PL-401, Washington, DC 20590-0001. The DMS is open for examination and copying, at the above address, from 9 a.m. to 5 p.m., Monday through Friday, except federal holidays.

If you may also view the decisions by using the Internet. The DOT DMS website is located at http://dms.dot.gov. Please follow the online instructions for viewing the decisions.

FOR FURTHER INFORMATION CONTACT: Russell B. Capelle, Jr., K-13, Bureau of Transportation Statistics, 400 Seventh Street, SW., Washington, DC 20590-0001; (202) 366-5685; fax: (202) 366-3364; e-mail: russ.capelle@bts.gov or Robert A. Monniere, K-2, Bureau of Transportation Statistics, 400 Seventh Street, SW., Washington, DC 20590-0001; (202) 366-5498; fax: (202) 366-3640; e-mail: robert.monniere@bts.gov.

Russell B. Capelle, Jr.,
Assistant BTS Director for Motor Carrier Information.

[FR Doc. 02-25184 Filed 10-2-02; 8:45 am]

BILLING CODE 4910-FE-P